DEPARTMENT OF HEALTH AND HUMAN SERVICES

[Document Identifier: OS-0990-0438]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before August 29, 2023.

ADDRESSES: Submit your comments to Sherrette.Funn@hhs.gov or by calling (202) 264-0041 and PRA@HHS.GOV.

FOR FURTHER INFORMATION CONTACT: When submitting comments or requesting information, please include the document identifier 0990-New-60D and project title for reference, to Sherrette A. Funn, email: Sherrette.Funn@hhs.gov, PRA@HHS.GOV or call (202) 264-0041 the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: FY2020 Teen Pregnancy Prevention (TPP) Program Performance Measures.

Type of Collection: Extension.

OMB No.: 0990-0438.

Abstract: The Office of Population Affairs (OPA), in the Office of the Assistant Secretary for Health (OASH), U.S. Department of Health and Human Services (HHS), requests a renewal clearance for the collection of performance measures specifically for FY2020 Teen Pregnancy Prevention (TPP) Program grantees. Collection of performance measures is a requirement of all TPP awards and is included in the NOFOs. The data collection will allow OPA to comply with federal accountability and performance requirements, inform stakeholders of grantee progress in meeting TPP program goals, provide OPA with metrics for monitoring TPP grantees, and facilitate individual grantees' continuous quality improvement efforts within their projects. OPA requests clearance for one year to cover reporting during the no-cost extension period of the awards.

Annualized Burden Hour Table
Forms (if necessary) | Respondents (if necessary) | Number of respondents | Number of responses per respondents | Average burden per response | Total burden hours
Grantees (partners and sustainability) | All TPP grantees | 90 | 2 | 15/60 | 45
Grantees (training) | All TPP Grantees | 90 | 2 | 15/60 | 45
Grantees (dissemination) | All TPP Grantees | 90 | 2 | 30/60 | 90
Grantees (Stakeholder Engagement) | All TPP Grantees | 90 | 2 | 15/60 | 45
Grantees ( Reach and Demographics) | Tier 1 and Tier 2 Phase II Grantees | 64 | 2 | 3 | 384
Grantees (Dosage) | Tier 1 and Tier 2 Phase II Grantees | 64 | 2 | 2 | 256
Grantees (Fidelity and Quality) | Tier 1 and Tier 2 Phase II Grantees | 64 | 2 | 2 | 256
Total |  |  | 2 |  | 1,155

Sherrette A. Funn,
Paperwork Reduction Act Reports Clearance Officer, Office of the Secretary.

[FR Doc. 2023-13909 Filed 6-29-23; 8:45 am]

BILLING CODE 4150-34-P